DEPARTMENT OF JUSTICE

Notice of Lodging of Consent Decree Under the Clean Air Act

Notice is hereby given that on July 8, 2008, a proposed Consent Decree in United States v. Bristol-Myers Squibb Company, Civil Action No. 3:08-CV-097, was lodged with the United States District Court for the Southern District of Indiana.

In this action, the United States sought injunctive relief and civil penalties for violations of the industrial refrigerant repair, recordkeeping, and reporting regulations at 40 CFR 82.152-82.166 (Recycling and Emission Reduction) promulgated by the Environmental Protection Agency (“EPA”) under Subchapter VI of the Act (Stratospheric Ozone Protection), 42 U.S.C. 7671-7671q, at thirteen of Bristol-Myers Squibb's United States facilities, which are located in Wallingford, Connecticut; Evansville and Mount Vernon, Indiana; Billerica, Massachusetts; Zeeland, Michigan; Hopewell, Lawrenceville, and New Brunswick, New Jersey; Buffalo and East Syracuse, New York; and Barceloneta, Humacao, and Mayaguez, Puerto Rico. In the proposed Consent Decree, Bristol-Myers Squibb agrees to (1) retrofit or retire seventeen of its industrial process and comfort cooling (air conditioners) refrigeration units at five of its facilities, in Evansville and Mt. Vernon, Indiana; Hopewell, New Jersey; and Humacao and Mayaguez, Puerto Rico by July 1, 2009, (2) pay a $127,000 penalty to the United States, and (3) perform a Supplemental Environmental Project by retiring two comfort cooling refrigeration units at its New Brunswick, New Jersey facility and tying the functions served by the comfort coolers into the company's new centralized water-chilled refrigeration systems at a cost of at least $2,250,000.

The Department of Justice will receive for a period of thirty (30) days from the date of this publication comments relating to the Consent Decree. Comments should be addressed to the Assistant Attorney General, Environment and Natural Resources Division, and either e-mailed to pubcomment-ees.enrd@usdoj.gov or mailed to P.O. Box 7611, U.S. Department of Justice, Washington, DC 20044-7611, and should refer to United States v. Bristol-Myers Squibb Company, D.J. Ref. 90-5-2-1-08547.

The Consent Decree may be examined at the Office of the United States Attorney, 10 West Market St., Suite 2100, Indianapolis, IN, 46204, and at U.S. EPA Region 5, 77 West Jackson Blvd., Chicago, IL 60604. During the public comment period, the Consent Decree may also be examined on the following Department of Justice Web site, to http://www.usdoj.gov/enrd/Consent_Decrees.html. A copy of the Consent Decree may also be obtained by mail from the Consent Decree Library, P.O. Box 7611, U.S. Department of Justice, Washington, DC 20044-7611 or by faxing or e-mailing a request to Tonia Fleetwood (tonia.fleetwood@usdoj.gov), fax no. (202) 514-0097, phone confirmation number (202) 514-1547. In requesting a copy from the Consent Decree Library, please enclose a check in the amount of $9.00 (25 cents per page reproduction cost) payable to the U.S. Treasury or, if by e-mail or fax, forward a check in that amount to the Consent Decree Library at the stated address.

William D. Brighton,
Assistant Chief, Environmental Enforcement Section, Environment and Natural Resources Division.

[FR Doc. E8-16107 Filed 7-14-08; 8:45 am]

BILLING CODE 4410-15-P